DEPARTMENT OF TRANSPORTATION

Office of the Secretary

[Docket No. DOT-2012- DOT-OST-2012-0184]

Privacy Act of 1974; Department of Transportation, Office of the Secretary of Transportation; DOT/ALL-25; Department of Transportation Biographies System of Records

AGENCY: Office of the Departmental Chief Information Officer, Office of the Secretary of Transportation, DOT.

ACTION: Notice of Privacy Act system of records and consolidate two legacy systems of records.

SUMMARY: In accordance with the Privacy Act of 1974, the Department of Transportation's Office of the Secretary of Transportation (DOT/OST) intends to establish a DOT-wide System of Records of Transportation system of records titled, “DOT/ALL-25, Department of Transportation Biographies System of Records.” The Department also intends to consolidate the following legacy record systems DOT/FAA 837 Photographs and Biographical Information (April 11, 2000) and DOT/MARAD 011 Biographical Files (April 11, 2000) as part of the same. This system of records will allow the Department of Transportation, to include its Operating Administrations and Secretarial Offices, to collect and maintain biographical information of Department of Transportation employees and other individuals for the purpose of publicizing skills, experiences, and expertise relevant to Department of Transportation activities and services. These records are separate and distinct from and are not compiled from records maintained by the Department for any other function including but not limited to human resources. This system, titled Biographies, will be included in the Department of Transportation's inventory of record systems.

DATES: Written comments should be submitted on or before May 31, 2013. The Department may publish an amended SORN in light of any comments received. This new system will be effective May 31, 2013.

ADDRESSES: You may submit comments, identified by docket number DOT-2012-DOT-OST-2012-0184 by any of the following methods:

• Federal e-Rulemaking Portal: http://www.regulations.gov. Follow the instructions for submitting comments.

• Mail: Docket Management Facility, U.S. Department of Transportation, 1200 New Jersey Ave. SE., West Building Ground Floor, Room W12-140, Washington, DC 20590-0001.

• Hand Delivery or Courier: West Building Ground Floor, Room W12-140, 1200 New Jersey Ave. SE., between 9 a.m. and 5 p.m. ET, Monday through Friday, except Federal Holidays.

• Fax: (202) 493-2251.

Instructions: You must include the agency name and docket number DOT-OST-2012-0184. All comments received will be posted without change to http://www.regulations.gov, including any personal information provided.

Privacy Act: Anyone is able to search the electronic form of all comments received in any of our dockets by the name of the individual submitting the comment (or signing the comment, if submitted on behalf of an association, business, labor union, etc.). You may review DOT's complete Privacy Act statement in the Federal Register published on January 17, 2008 (73 FR 3316-3317).

Docket: For access to the docket to read background documents or comments received, go to http://www.regulations.gov or to the street address listed above. Follow the online instructions for accessing the docket.

FOR FURTHER INFORMATION CONTACT: For questions, please contact: Claire W. Barrett, Departmental Chief Privacy Officer, Privacy Office, Department of Transportation, Washington, DC 20590; privacy@dot.gov; or (202) 366-8134.

SUPPLEMENTARY INFORMATION:

I. Background

In accordance with the Privacy Act of 1974, 5 U.S.C. 552a, the Department of Transportation (DOT)/Office of the Secretary of Transportation (OST) proposes to issue a DOT system of records titled, “DOT/ALL-25 Biographies.”

The Department wishes to create a new system of records for biographical information, including photographs, of senior leadership, employees and others who are engaged in activities on behalf of the Department. The Department will use this biographical information to provide information to the media and the public about agency expertise and services, to provide introductory materials for speeches and other events and meetings, and to provide information to the media and public about the qualifications of the Department's employees, contractors, or others about whom the Department collects biographical information. The Department also intends to consolidate the following legacy record systems DOT/FAA 837 Photographs and Biographical Information (April 11, 2000) and DOT/MARAD 011 Biographical Files (April 11, 2000) as part of the same. These records are separate and distinct from and are not compiled from records maintained by the Department for any other function including but not limited to human resources.

These routine uses are compatible with the purposes for which the information was collected. Individuals whose PII is in this system of records have provided it to DOT to enable DOT to make that information available to the public, through the DOT Web site or other means, for the purpose of furthering DOT missions and promoting its expertise.

The information contained within this system of records will be collected directly from the individual employees or individuals who are the subject of the record. Through this collection mechanism, these individuals will have the opportunity to determine which categories of their PII may be disclosed pursuant to the routine uses provided in this SORN. All collections are voluntary and individuals may request that use of the information be discontinued at any time. This updated system will be included in DOT's inventory of record systems.

II. Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information).

In accordance with 5 U.S.C. 552a(r), DOT has provided a report of this system of records to the Office of Management and Budget and to Congress.

SYSTEM OF RECORDS

Department of Transportation (DOT)/ALL—25

SYSTEM NAME:

Department of Transportation (DOT)/ALL—25, Biographies System of Records

SECURITY CLASSIFICATION:

Unclassified

SYSTEM LOCATION:

Records are maintained at the Department of Transportation and in component offices of the Department of Transportation in both Washington, DC and field offices.

CATEGORIES OF INDIVIDUALS COVERED BY THE SYSTEM:

Any individual, including Department of Transportation senior leadership, past and present, whose biographical information is collected and distributed by DOT.

CATEGORIES OF RECORDS IN THE SYSTEM:

Categories of records in the system may include but are not limited to:

• Individual's name;

• Individual's place of birth;

• Individual's photo;

• Individual's work history and experience;

• Individual's education;

• Individual's military experience;

• Individual's civil duties and awards;

• Individual's hometown;

• Individual's other relevant areas of information that may be collected and distributed to the public.

AUTHORITY FOR MAINTENANCE OF THE SYSTEM:

5 U.S.C. 301; The Federal Records Act, 44 U.S.C. 3101; 49 U.S.C. 301

PURPOSE(S):

The purpose of this system is to collect biographical information of individuals, primarily DOT employees and senior leadership, in order to provide information to the media and the public.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DOT as a routine use pursuant to 5 U.S.C. 552a(b)(3) as follows:

1. To individuals or organizations, both public and private, for the purpose of introduction at speaking engagements, meetings and other events;

2. To professional societies, civil clubs, industrial and other organizations, Federal, state and local government agencies, representatives of the news media, researchers, authors, Congress, and members of the public by posting such information on the Internet or in DOT publications to further of DOT mission and activities;

3. To professional societies, civil clubs, industrial and other organizations, state and local governments, representatives of the news media, and other Federal, state and local government agencies for publications related to DOT's mission and activities;

4. See “Prefatory Statement of General Routine Uses” (available at http://www.dot.gov/privacy/privacyactnotices). Other possible routine uses of the information, applicable to all DOT Privacy Act systems of records, are published in the Federal Register at 75 FR 82132, December 29, 2010, and 77 FR 42796, July 20, 2012 (available at http://www.dot.gov/privacy).

DISCLOSURE TO CONSUMER REPORTING AGENCIES:

None.

POLICIES AND PRACTICES FOR STORING, RETRIEVING, ACCESSING, RETAINING, AND DISPOSING OF RECORDS IN THE SYSTEM:

STORAGE:

Records in this system are stored electronically and/or on paper in secure facilities. Electronic records may be stored on magnetic disc, tape, digital media, and CD-ROM.

RETRIEVABILITY:

Records may be retrieved by individual's name.

SAFEGUARDS:

Records in this system are safeguarded in accordance with applicable rules and policies, including all applicable DOT automated systems security and access policies. Strict controls have been imposed to minimize the risk of compromising the information that is being stored. Access to records in this system is limited to those individuals who have a need to know the information for the performance of their official duties and who have appropriate clearances or permissions.

RETENTION AND DISPOSAL:

DOT is preparing a new records disposition schedule (Standard Form 115) for submission to the National Archives and Records Administration (NARA), which will include the following proposed retention periods: Records at the executive level (e.g. Secretary, Deputy Secretary, and Chief of Staff) are permanent. These records are cut off when superseded or obsolete, and are transferred to NARA one year after cut off. Other records will be retained for two years from the date of collection and then disposed.

DOT will retain all records until a disposition schedule is approved by NARA.

SYSTEM MANAGER AND ADDRESS:

For office of the secretary components of DOT, the system manager is the Director, Public Affairs, Department of Transportation, 1200 New Jersey Ave. SE., Washington, DC, 20590. For Operating Administrations of DOT, the System Manager can be found at http://www.dot.gov/briefingroom under “Press Offices.”

NOTIFICATION PROCEDURE:

Individuals seeking notification of and access to any record contained in this system of records, or seeking to contest its content, may submit a request in writing to the modal Privacy Officer where the records are kept whose contact information can be found at http://www.dot.gov/foia under “Contact Us.” If an individual believes more than one component maintains Privacy Act records concerning him or her, the individual may submit the request to the Departmental Freedom of Information Act Office, U.S. Department of Transportation, Room W94-122, 1200 New Jersey Ave. SE., Washington, DC 20590, ATTN: FOIA request.

When seeking records about yourself from this system of records or any other Departmental system of records your request must conform with the Privacy Act regulations set forth in 49 CFR part 10. You must sign your request, and your signature must either be notarized or submitted under 28 U.S.C. 1746, a law that permits statements to be made under penalty of perjury as a substitute for notarization. While no specific form is required, you may obtain forms for this purpose from the Chief Freedom of Information Act Officer, http://www.dot.gov/foia or 202.366.4542. In addition you should provide the following:

An explanation of why you believe the Department would have information on you;

• Identify which component(s) of the Department you believe may have the information about you;

• Specify when you believe the records would have been created;

• Provide any other information that will help the FOIA staff determine which DOT component agency may have responsive records; and

If your request is seeking records pertaining to another living individual, you must include a statement from that individual certifying his/her agreement for you to access his/her records.

Without this bulleted information the component(s) may not be able to conduct an effective search, and your request may be denied due to lack of specificity or lack of compliance with applicable regulations.

RECORD ACCESS PROCEDURES:

See “Notification procedure” above.

CONTESTING RECORD PROCEDURES:

See “Notification procedure” above.

RECORD SOURCE CATEGORIES:

Records are obtained from DOT employees and other individuals who are the subject of such records. Collection and use of all records is voluntary and individuals may decline from providing such information for the purposes described within this notice.

EXEMPTIONS CLAIMED FOR THE SYSTEM:

None.

Issued in Washington, DC on May 2, 2013.
Claire W. Barrett,
Departmental Chief Privacy Officer.

[FR Doc. 2013-10842 Filed 5-7-13; 8:45 am]

BILLING CODE 4910-9X-P